DEPARTMENT OF THE INTERIOR

Office of Natural Resources Revenue

[Docket No. ONRR-2011-0019; DS63610000 DR2PS0000.CH7000 156D0102R2]

Agency Information Collection Activities: Accounts Receivable Confirmations—OMB Control Number 1012-0001; Comment Request

AGENCY: Office of Natural Resources Revenue (ONRR), Department of the Interior.

ACTION: Notice of renewal of an existing Information Collection; withdrawal.

SUMMARY: On August 25, 2015, the Office of Natural Resources Revenue (ONRR) published (at 80 FR 51595) a notice of renewal (with a 60-day comment period) to invite comments on an information collection request. This notice of renewal is withdrawn.

FOR FURTHER INFORMATION CONTACT: For questions on technical issues, contact Mr. Luis Aguilar, Regulatory Specialist, ONRR, telephone (303) 231-3418, or email Luis.Aguilar@onrr.gov.

Dated: August 31, 2015.
Gregory J. Gould,
Director, Office of Natural Resources Revenue.

[FR Doc. 2015-22615 Filed 9-8-15; 8:45 am]

BILLING CODE 4335-30-P